ENVIRONMENTAL PROTECTION AGENCY

40 CFR Part 52

[EPA-R04-OAR-2021-0055; FRL-8986-01-R4]

Air Plan Approval; North Carolina; Mecklenburg Volatile Organic Compounds

AGENCY: Environmental Protection Agency (EPA).

ACTION: Proposed rule.

SUMMARY: The Environmental Protection Agency (EPA) is proposing to approve a State Implementation Plan (SIP) revision to the Mecklenburg County portion of the North Carolina SIP, hereinafter referred to as the Mecklenburg Local Implementation Plan (LIP). The revision was submitted by the State of North Carolina, through the North Carolina Division of Air Quality (NCDAQ), on behalf of Mecklenburg County Air Quality (MCAQ) via a letter dated April 24, 2020, and was received by EPA on June 19, 2020. The revision updates several Mecklenburg County Air Pollution Control Ordinance (MCAPCO) rules incorporated into the LIP, removes several rules, and adds several rules. The rules addressed in this proposal relate to volatile organic compound (VOC) emissions and include several VOC Reasonably Available Control Techniques (RACT) rules. EPA is proposing to approve these changes pursuant to the Clean Air Act (CAA or Act).

DATES: Comments must be received on or before December 17, 2021.

ADDRESSES: Submit your comments, identified by Docket ID No. EPA-R04-OAR-2021-0055 at www.regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit www2.epa.gov/dockets/commenting-epa-dockets.

FOR FURTHER INFORMATION CONTACT: Jane Spann, Air Regulatory Management Section, Air Planning and Implementation Branch, Air and Radiation Division, U.S. Environmental Protection Agency, Region 4, 61 Forsyth Street SW, Atlanta, Georgia 30303-8960. The telephone number is (404) 562-9029. Ms. Spann can also be reached via electronic mail at spann.jane@epa.gov.

SUPPLEMENTARY INFORMATION:

I. Background and Overview

The Mecklenburg County LIP was submitted to EPA on June 14, 1990, and EPA approved the plan on May 2, 1991. See 56 FR 20140. Mecklenburg County is now requesting that EPA approve changes to the LIP for, among other things, general consistency with the North Carolina SIP.¹ Mecklenburg County prepared three submittals in order to update the LIP and reflect regulatory and administrative changes that NCDAQ made to the North Carolina SIP since EPA's 1991 LIP approval.² The three submittals were submitted as follows: NCDAQ transmitted the October 25, 2017, submittal to EPA but later withdrew it from review through a letter dated February 15, 2019. On April 24, 2020, NCDAQ resubmitted the October 25, 2017, update to EPA and also submitted the January 21, 2016, and January 14, 2019, updates. Due to an inconsistency with public notices at the local level, these submittals were withdrawn from EPA through a letter dated February 15, 2019. Mecklenburg County corrected this error, and NCDAQ submitted the updates to EPA in a submittal dated April 24, 2020.³ This proposed rule proposes to modify the LIP by revising, adding, and removing several rules related to the control of VOCs, including several VOC RACT rules, located in MCAPCO Article 2.0000, Air Pollution and Control Regulations and Procedures, Section 2.0900, Volatile Organic Compounds.

¹ Hereinafter, the terms “North Carolina SIP” and “SIP” refer to the North Carolina regulatory portion of the North Carolina SIP (i.e., the portion that contains SIP-approved North Carolina regulations).

² The Mecklenburg County, North Carolina revision that is dated April 24, 2020, and received by EPA on June 19, 2020, is comprised of three previous submittals—one dated January 21, 2016; one dated October 25, 2017; and one dated January 14, 2019.

³ EPA notes that the April 24, 2020, submittal was received by EPA on June 19, 2020.

On April 30, 2004, EPA designated the Charlotte-Gastonia-Rock Hill, NC-SC area (hereinafter referred to as the “bi-state Charlotte Area”) as a moderate nonattainment area with respect to the 1997 8-hour ozone national ambient air quality standards (NAAQS). See 69 FR 23858. The bi-state Charlotte Area includes six full counties and one partial county in North Carolina and one partial county in South Carolina.⁴ The North Carolina portion of the bi-state Charlotte Area consists of Cabarrus, Gaston, Lincoln, Mecklenburg, Rowan, and Union Counties and a portion of Iredell County which includes Davidson and Coddle Creek Townships.

⁴ The South Carolina portion of the bi-state Charlotte Area consists of the portion of York County, South Carolina that falls within the Rock Hill-Fort Mill Area Transportation Study Metropolitan Planning Organization Area.

As a result of this designation, North Carolina and South Carolina were required to amend their SIPs for their respective portions of the bi-state Charlotte Area to satisfy the relevant requirements of section 182 of the CAA. On July 25, 2013, EPA approved the RACT requirements for the North Carolina portion of the bi-state Charlotte Area.⁵ See 78 FR 44890. Section 182(b)(2) of the CAA requires states to adopt RACT rules for all areas designated nonattainment for ozone and classified as moderate or above. The three parts of CAA section 182(b)(2) RACT requirements are: (1) RACT for sources covered by an existing Control Technique Guideline (CTG) (i.e., a CTG issued prior to enactment of the 1990 amendments to the CAA); (2) RACT for sources covered by a post CAA 1990 amendments enactment CTG; and (3) RACT for all major sources not covered by a CTG (i.e., non-CTG sources).

⁵ EPA approved the RACT requirements for the South Carolina portion of the bi-state Charlotte Area on November 28, 2011, at 76 FR 72844.

Pursuant to 40 CFR 51.165, a major source for a moderate ozone nonattainment area is a source that emits 100 tons per year or more of VOC or nitrogen oxides (NOX). On May 9, 2013, EPA took final action to approve the North Carolina SIP revisions addressing NOX RACT, VOC RACT, and CTG requirements. See 78 FR 27065. Together, these SIP revisions established the RACT requirements for the major sources located in the North Carolina portion of the bi-state Charlotte Area. NCDAQ submitted a SIP revision on May 1, 2013, to address deficiencies with the State's VOC RACT rules as identified in EPA's May 9, 2013, conditional approval of North Carolina's VOC RACT rules.⁶ See 78 FR 27065.

⁶ The bi-state Charlotte Area was redesignated to attainment for the 1997 ozone NAAQS on December 2, 2013, and December 26, 2012, for North Carolina and South Carolina, respectively. The Charlotte-Rock Hill, North Carolina—South Carolina Area was designated as a marginal nonattainment area for the 2008 ozone NAAQS on May 21, 2012, and redesignated to attainment for that NAAQS on July 28, 2015 and December 11, 2015, for North Carolina and South Carolina, respectively. That area was designated attainment for the 2015 ozone NAAQS on November 6, 2017. The Charlotte area is currently attaining all ozone NAAQS.

II. What action is EPA proposing to take?

The April 24, 2020, submittal updates several MCAPCO rules incorporated into the LIP, removes several rules, and adds several rules to more closely align the LIP with the SIP. The January 21, 2016, changes include updates to MCAPCO Rules 2.0926, Bulk Gasoline Plants; 2.0927, Bulk Gasoline Terminals; 2.0928, Gasoline Service Stations Stage 1; and 2.0958, Work Practice for Sources of Volatile Organic Compounds. The submittal also seeks to remove MCAPCO Rules 2.0910, Alternative Compliance Schedules and 2.0929, Petroleum Refinery Sources; and add MCAPCO Rules 2.0947, Manufacture of Synthesized Pharmaceutical Products; 2.0948, VOC Emissions from Transfer Operations; and 2.0949, Storage of Miscellaneous Volatile Organic Compounds.⁷

⁷ EPA notes that the Agency received revisions to several rules updating the Mecklenburg County portion of the North Carolina SIP transmitted with the same April 24, 2020, cover letter. EPA will be considering these other SIP revisions, including certain Section 2.2600 and Section 2.0900 rules in separate rulemakings.

The January 21, 2016 submittal also asks EPA to reincorporate the following rules with no changes or very few minor grammatical edits into the LIP with a new effective date: MCAPCO Rules 2.0906, Circumvention; 2.0918, Can Coating; 2.0919, Coil Coating; 2.0924, Magnet Wire Coating; 2.0925, Petroleum Liquid Storage in Fixed Roof Tanks; 2.0930, Solvent Metal Cleaning; 2.0931, Cutback Asphalt; 2.0933, Petroleum Liquid Storage in External Floating Roof Tanks; 2.0937, Manufacture of Pneumatic Rubber Tires; and 2.0944, Manufacture of Polyethylene: Polypropylene and Polystyrene.⁸

⁸ Hereinafter, the MCAPCO Rules will be identified by “Rule” and the accompanying number, e.g., Rule 2.0901.

III. EPA's Analysis of North Carolina's Submittal

The April 24, 2020, SIP revision updates, removes, and adds rules in Section 2.0900, Volatile Organic Compounds. EPA is proposing to approve these changes to the LIP because they are consistent with the CAA and more closely align the LIP with the SIP.⁹

⁹ This section does not analyze Rules 2.0906, Circumvention; 2.0918, Can Coating; 2.0919, Coil Coating; 2.0924, Magnet Wire Coating; 2.0925, Petroleum Liquid Storage in Fixed Roof Tanks; 2.0930, Solvent Metal Cleaning; 2.0931, Cutback Asphalt; 2.0933, Petroleum Liquid Storage in External Floating Roof Tanks; 2.0937, Manufacture of Pneumatic Rubber Tires; and 2.0944, Manufacture of Polyethylene: Polypropylene and Polystyrene because there are no changes or very few minor grammatical edits.

A. Rule 2.0910, Alternative Compliance Schedules

The April 24, 2020, revision removes Rule 2.0910, Alternative Compliance Schedules, from the LIP because the alternative compliance schedules became obsolete. They are obsolete because Rule 2.0910 only allows alternative compliance schedules if they are submitted before January 1, 1980.

Rule 2.0910 was first adopted into the MCAPCO in 1979, was approved by EPA into the LIP on May 2, 1991 (56 FR 20140), and established requirements for alternative compliance schedules for VOC sources. The proposed removal of Rule 2.0910 from the LIP is consistent with the removal of the corresponding state rule, 15A NCAC 02D .0910, Alternative Compliance Schedules, from the SIP on October 15, 1999. See 64 FR 55831. EPA approved North Carolina's March 19, 1997, SIP submittal seeking removal of Rule 02D .0910 because the alternative compliance schedules had become obsolete.

EPA is proposing to approve the removal of Rule 2.0910 because the alternate compliance schedules are obsolete, it better aligns the LIP with the SIP, and it will not interfere with any applicable CAA requirements.

B. Rule 2.0926, Bulk Gasoline Plants

The April 24, 2020, revision modifies Rule 2.0926, Bulk Gasoline Plants, by adding a definition for “Average daily throughput;” adding “Incoming vapor balance system,” and “Outgoing vapor balance system” to replace and clarify the definition for “Vapor balance system;” removing paragraph (c) and redistributing its components into paragraphs (b) and (d); clarifying language in a new paragraph (c); adding language to require outgoing vapor balance systems on certain receiving truck tanks and trailers at certain bulk gasoline plants and in nonattainment areas; making a few grammatical edits including renumbering and changing “immediately” to “automatically and immediately” in paragraph (i); requiring that gasoline storage tanks be painted white or silver; requiring pressure relief valves on stationary storage tanks to be set at 0.5 psi for storage tanks placed in service on or after November 1, 1992, and 0.25 psi for storage tanks existing before November 1, 1992; requiring transfer of gasoline to be discontinued if liquid or vapor leaks are observed; and requiring truck tank and trailers to be certified leak tight in accordance with Rule 2.0932. The changes more closely align the rule with the corresponding SIP-approved state rule at 15A NCAC 02D .0926, Bulk Gasoline Plants, which reflects EPA's Bulk Gasoline Plants CTG.

Rule 2.0926 was first approved by EPA into the LIP on May 2, 1991 (56 FR 20140), was revised on June 23, 1994 (59 FR 32362), and established requirements to meet the 1977 CTG for controlling VOC emissions from bulk gasoline plants. EPA most recently approved amendments to the state rule in North Carolina's SIP, including updates that correspond to those proposed for incorporation into the LIP-approved version of Rule 2.0926, on August 1, 1997. See 62 FR 41277.

EPA is proposing to approve the changes to Rule 2.0926 because they add and clarify necessary definitions, require outgoing vapor balance systems, set required pressures for pressure relief valves and address leaks to be consistent with EPA's CTG, better align the LIP with the SIP, and will not interfere with any applicable CAA requirements.

C. Rule 2.0927, Bulk Gasoline Terminals

The April 24, 2020, revision modifies Rule 2.0927, Bulk Gasoline Terminals, by adding definitions for “Degassing,” “Leak,” “Liquid balancing,” and “Liquid displacement;” making a few grammatical edits including renumbering; and adding requirements for collecting, controlling, inspecting for leaks and documenting emissions from external and internal floating roof tanks at a bulk gasoline terminal, citing Rule 2.0903. The changes more closely align the rule with the corresponding SIP-approved state rule at 15A NCAC 02D .0927, Bulk Gasoline Terminals, which reflects EPA's Tank Truck Gasoline Loading Terminals CTG.

Rule 2.0927 was first approved by EPA into the LIP on May 2, 1991 (56 FR 20140), and established requirements to meet the 1977 CTG for controlling VOC emissions from bulk gasoline terminals. EPA most recently approved amendments to the state rule in North Carolina's SIP, including updates that correspond to those proposed for incorporation into the LIP-approved version of Rule 2.0927, on October 31, 2007. See 72 FR 61531.¹⁰

¹⁰ EPA's action at 78 FR 27065, identified in the entry for Rule 02D .0927 at 40 CFR 52.1770(c), did not modify the rule text.

EPA is proposing to approve the changes to Rule 2.0927 because they add details on leak inspection, recordkeeping, and requirements for leak repair; standardize procedures used at bulk gasoline terminals to locate, repair and document leaks of VOC; require routine inspections; make it easier for MCAQ to determine compliance; better align the LIP with the SIP; and will not interfere with any applicable CAA requirements.

D. Rule 2.0928, Gasoline Service Station Stage 1

The April 24, 2020, revision modifies Rule 2.0928, Gasoline Service Station Stage 1, by adding definitions for “Coaxial system,” “Dual point system,” “Line,” “Poppeted vapor recovery adaptor,” “Stationary storage tank,” and “Throughput;” amending the definition for “Submerged fill pipe” to clarify the distance above the bottom of the tank depending on if there is a vapor recovery adaptor or not and measurement depending on whether the pipe is cut at a slant; adding applicability to delivery vessels delivering gasoline to a gasoline dispensing facility or gasoline service station; changing an exemption for certain transfers; adding clarifying language related to submerged fill pipes; adding an exemption for certain stationary storage tanks with a capacity of not more than 2,000 gallons of gasoline and for any tanks used exclusively to test the fuel dispensing meters except for those in ozone nonattainment areas; clarifying that vapor control systems must have a vapor tight connection and delivery vessels and vapor collections systems must comply with rule 2.0932 in order for gasoline to be transferred from any delivery vessel into any stationary storage tank; clarifying requirements for the vapor control system depending on whether it is a coaxial or dual point vapor recovery system and adding additional paragraphs to further explain these clarifications; removing allowance for alternative vapor control system requirements; requiring that vent lines on tanks with Stage 1 controls shall have pressure release valves or restrictors; changing the requirement that refilled vapor-laden delivery vessels that are refilled in nonattainment areas shall be refilled only at plants meeting Rules 2.096 or 2.0927 to requiring that refilled vapor-laden delivery vessels that are refilled in North Carolina shall be refilled only at plants meeting Rules 2.096 or 2.0927; and making a few grammatical edits including renumbering. The changes more closely align the rule with the corresponding SIP-approved state rule at 15A NCAC 02D .0928, Gasoline Service Stations Stage 1, which reflects EPA's Stage 1 Vapor Control Systems CTG.

Rule 2.0928 was first approved by EPA into the LIP on May 2, 1991 (56 FR 20140) and last revised on June 23, 1994 (59 FR 32362). The rule established requirements to meet the 1975 CTG for controlling VOC emissions from gasoline service stations through the Stage 1 Vapor Recovery systems. EPA most recently approved amendments to the state rule in North Carolina's SIP, including updates that correspond to those proposed for incorporation into the LIP-approved version of Rule 2.0928, on August 1, 1997. See 62 FR 41277.

EPA is proposing to approve the changes to Rule 2.0928 because they clarify Stage 1 vapor recovery requirements, better align the LIP with the SIP, and will not interfere with any applicable CAA requirements.

E. Rule 2.0929, Petroleum Refinery Sources

The April 24, 2020, revision removes Rule 2.0929 from the LIP because there are no sources in Mecklenburg County for which the Petroleum Refinery Leaks CTG category applies.

Rule 2.0929 was first adopted into the MCAPCO in 1979, was approved by EPA into the LIP on May 2, 1991 (56 FR 20140), and was revised in the LIP on June 23, 1994 (59 FR 32362). Rule 2.0929 established requirements to meet the 1978 Petroleum Refinery Leaks CTG for controlling VOC emissions from petroleum refinery equipment. The proposed removal of Rule 2.0929 from the LIP is consistent with the removal of the corresponding state rule 15A NCAC 02D .0929, Petroleum Refinery Sources, from the SIP on August 1, 1997. See 62 FR 41277.¹¹

¹¹ In an April 6, 2010, SIP revision, North Carolina made a negative declaration for the Petroleum Refinery Sources CTG source category stating that there are no applicable sources in the North Carolina portion of the bi-state Charlotte Area, including Mecklenburg County, North Carolina. EPA approved that SIP revision on May 9, 2013 (78 FR 27065). On October 18, 2021, Mecklenburg County confirmed there are currently no petroleum refineries in Mecklenburg County. See email from Leslie Rhodes, Air Quality Director, Mecklenburg County Air Quality to Lynorae Benjamin, Branch Chief, Air Planning and Implementation Branch, EPA Region 4 found in the docket for this proposed action.

EPA is proposing to approve the removal of Rule 2.0929 because there are no petroleum refineries in Mecklenburg County, it better aligns the LIP with the SIP, and will not interfere with any applicable CAA requirements.

F. Rule 2.0947, Manufacture of Synthesized Pharmaceutical Products

The April 24, 2020, revision adds Rule 2.0947, Manufacture of Synthesized Pharmaceutical Products, to Section 2.0900. Mecklenburg adopted Rule 2.0947 on July 1, 1994, and it contains requirements to meet the 1978 CTG for controlling VOC emissions from the manufacture of synthesized pharmaceutical products. Rule 2.0947 includes definitions for “Production equipment exhaust system” and “Synthesized pharmaceutical manufacturing;” applicability and emission control requirements for reactors, distillation operations, crystallizers, centrifuges, vacuum dryers, air dryers, production equipment exhaust systems, storage tanks and centrifuges, rotary vacuum filters, and other filters related to VOC and in-process tanks; requirements for leak repairs; and required temperatures for condenser outlets.

Approving the April 24, 2020 SIP revision would add these CTG requirements to the LIP and more closely align the LIP with the SIP which contains a state rule analog at 15A NCAC 02D .0947, Manufacture of Synthesized Pharmaceutical Products. North Carolina adopted Rule 02D .0947 in 1994, and EPA approved it into the SIP on January 26, 1995. See 60 FR 5136.

EPA is proposing to incorporate Rule 2.0947 into the LIP to add the aforementioned CTG requirements and better align the LIP with the SIP. Adding this rule to the LIP will not interfere with any applicable CAA requirements.

G. Rule 2.0948, VOC Emissions From Transfer Operations

The April 24, 2020, revision adds Rule 2.0948, VOC Emissions From Transfer Operations, to Section 2.0900. Mecklenburg adopted Rule 2.0948 on July 1, 1994. Rule 2.0948 applies to operations that transfer VOC from a storage tank to truck-tanks, trailers, or railroad tank cars that are not covered by Rule 2.0929, Bulk Gasoline Plants, 2.0927, Bulk Gasoline Terminals, or 2.0928, Gasoline Stations Stage I, and provides requirements for loading VOCs into a truck-tank, trailer, or railroad tank car from storage tanks regulated by Rule 2.0948.

Approving the April 24, 2020 SIP revision would add these VOC emissions requirements to the LIP and more closely align the LIP with the SIP which contains a state rule analog at 15A NCAC 02D .0948, VOC Emissions From Transfer Operations. North Carolina adopted Rule 02D .0948 in 1994, and EPA approved it into the SIP on January 26, 1995. See 60 FR 5136. EPA most recently approved amendments to the state rule in North Carolina's SIP on August 27, 2001, to make minor administrative changes and clarifications. See 66 FR 34117.

EPA is proposing to incorporate Rule 2.0948 into the LIP to add the aforementioned VOC emissions requirements and better align the LIP with the SIP. Adding this rule to the LIP will not interfere with any applicable CAA requirements.

H. Rule 2.0949, Storage of Miscellaneous Volatile Organic Compounds

The April 24, 2020, revision adds Rule 2.0949, Storage of Miscellaneous Volatile Organic Compounds, to Section 2.0900. Mecklenburg adopted Rule 2.0949 on July 1, 1994. Rule 2.0949 applies to the storage of VOCs in stationary tanks, reservoirs, or other containers with a capacity greater than 50,000 gallons that are not covered by Rule 2.0925, Petroleum Liquid Storage in Fixed Roof Tanks, or Rule 2.0933, Petroleum Liquid Storage in External Floating Roof Tanks, and provides requirements for VOC storage at sources to which Rule 2.0949 applies.

Approving the April 24, 2020 SIP revision would add these VOC emissions requirements to the LIP and more closely align the LIP with the SIP which contains a state rule analog at 15A NCAC 02D .0949, Storage of Miscellaneous Volatile Organic Compounds. North Carolina adopted Rule 02D .0949 in 1994, and EPA approved it into the SIP on January 26, 1995. See 60 FR 5136. EPA most recently approved amendments to Rule 02D .0949 on August 27, 2001, to remove the requirement of having the director approve the vapor recovery system or any other means of air pollution. See 66 FR 34117.

EPA is proposing to incorporate Rule 2.0949 into the LIP to add the aforementioned VOC emissions requirements and better align the LIP with the SIP. Adding this rule to the LIP will not interfere with any applicable CAA requirements.

I. Rule 2.0958, Work Practice for Sources of Volatile Organic Compounds

The April 24, 2020, revision modifies Rule 2.0958, Work Practice for Sources of Volatile Organic Compounds, by adding an exemption for sources subject to 40 CFR part 63 Subpart JJ (National Emissions Standards For Wood Furniture Manufacturing); ¹² amending the requirement from cleaning up spills within 30 minutes to cleaning them up as soon as possible following proper safety procedures; changing “painting” to “coating” to clarify that solvents from the cleaning of all coating equipment must be contained properly; removing the requirement to minimize over application and over spray of all material containing VOCs; and changing “all reasonable precautions” to “precautions” when reducing the pooling of solvent on and in the parts and making minor edits. These changes more closely align Rule 2.0958 with the corresponding SIP-approved state rule at 15A NCAC 02D .0958, Work Practice for Sources of Volatile Organic Compounds.

¹² 40 CFR part 63 Subpart JJ contains work practice standards at 40 CFR 63.803.

Rule 2.0958 was approved by EPA into the LIP on October 22, 2002 (67 FR 64999). The rule established general work practices for VOC sources for controlling VOCs. EPA most recently approved amendments to the state rule in North Carolina's SIP on July 25, 2013. See 78 FR 44890.

EPA is proposing to approve this revision to make the aforementioned revisions and to better align the LIP with the SIP. EPA has preliminarily determined that this is consistent with federal regulations.

IV. Incorporation by Reference

In this document, EPA is proposing to include in a final EPA rule regulatory text that includes incorporation by reference. In accordance with requirements of 1 CFR 51.5, EPA is proposing to incorporate by reference MCAPCO Rules 2.0906, Circumvention; 2.0918, Can Coating; 2.0919, Coil Coating; 2.0924, Magnet Wire Coating; 2.0925, Petroleum Liquid Storage in Fixed Roof Tanks; 2.0926, Bulk Gasoline Plants; 2.0927, Bulk Gasoline Terminals; 2.0928, Gasoline Service Stations Stage I; 2.0930, Solvent Metal Cleaning; 2.0931, Cutback Asphalt; 2.0933, Petroleum Liquid Storage in External Floating Roof Tanks; 2.0937, Manufacture of Pneumatic Rubber Tires; 2.0944, Manufacture of Polyethylene: Polypropylene and Polystyrene; 2.0947, Manufacture of Synthesized Pharmaceutical Products; 2.0948, VOC Emissions from Transfer Operations; 2.0949, Storage of Miscellaneous Volatile Organic Compounds; and 2.0958, Work Practice for Sources of Volatile Organic Compounds, all of which have an effective date of December 15, 2015, into the Mecklenburg County portion of the North Carolina SIP to update the rules to more closely align with their analog North Carolina rules in the SIP. Also in this document, EPA is proposing to remove MCAPCO Rules 2.0910, Alternative Compliance Schedules and 2.0929, Petroleum Refinery Sources from the Mecklenburg County portion of the North Carolina SIP, which is incorporated by reference in accordance with the requirements of 1 CFR part 51. EPA has made, and will continue to make, the SIP generally available at the EPA Region 4 office (please contact the person identified in the FOR FURTHER INFORMATION CONTACT section of this preamble for more information).

V. Proposed Action

EPA is proposing to approve the aforementioned revisions to the Mecklenburg LIP. Specifically, EPA is proposing to approve revisions to MCAPCO Rules 2.0926, Bulk Gasoline Plants; 2.0927, Bulk Gasoline Terminals; 2.0928, Gasoline Service Stations Stage 1; and 2.0958, Work Practice for Sources of Volatile Organic Compounds. EPA is also proposing to remove Rules 2.0910, Alternative Compliance Schedules and 2.0929, Petroleum Refinery Sources and to add Rules 2.0947, Manufacture of Synthesized Pharmaceutical Products; 2.0948, VOC Emissions from Transfer Operations; and 2.0949, Storage of Miscellaneous Volatile Organic Compounds. EPA is proposing to approve these changes to the LIP because they are consistent with the CAA.

EPA is also proposing to reincorporate the following rules with no changes or very few minor grammatical edits with a new effective date into the LIP: MCAPCO Rules 2.0906, Circumvention; 2.0918, Can Coating; 2.0919, Coil Coating; 2.0924, Magnet Wire Coating; 2.0925, Petroleum Liquid Storage in Fixed Roof Tanks; 2.0930, Solvent Metal Cleaning; 2.0931, Cutback Asphalt; 2.0933, Petroleum Liquid Storage in External Floating Roof Tanks; 2.0937, Manufacture of Pneumatic Rubber Tires; and 2.0944, Manufacture of Polyethylene: Polypropylene and Polystyrene.

VI. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided they meet the criteria of the CAA. This proposed action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

List of Subjects in 40 CFR Part 52

Environmental protection, Air pollution control, Incorporation by reference, Intergovernmental relations, Nitrogen dioxide, Ozone, Volatile organic compounds, Reporting and recordkeeping requirements.

Authority: 42 U.S.C. 7401 et seq.

Dated: November 8, 2021.
John Blevins,
Acting Regional Administrator, Region 4.

[FR Doc. 2021-24900 Filed 11-16-21; 8:45 am]

BILLING CODE 6560-50-P